FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Michael M. Grimm, Acting Chief, Hazard Study Branch, Federal Insurance and Mitigation Administration, Federal Emergency Management Agency, 500 C Street SW., Washington, DC 20472, (202) 646-2878, or (email) Michael.Grimm@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD)
NEW JERSEY
Estell Manor (City), Atlantic County (FEMA Docket No. D-7538)
Tuckahoe River:
Approximately 0.7 mile upstream of Cumberland Avenue | *56
At State Route 49 | *22
Great Egg Harbor:
At the confluence of Great Egg Harbor River and South River | *9
Maps available for inspection at the Estell Manor City Municipal Building, 148 Cumberland Avenue, Estell Manor, New Jersey.
NEW YORK
Saranac (Town), Clinton County (FEMA Docket No. D-7538)
Saranac River:
Approximately 1,050 feet downstream of Duquette Road | *736
Approximately 400 feet upstream of confluence of North Branch Saranac River | *1,111
Approximately 600 feet southwest of the intersection of Cringle Road and State Route 3 and north of State Route 3 | *739
Maps available for inspection at the Saranac Town Hall, 3662 Route 3, Saranac, New York.
TENNESSEE
Brentwood (City), Williamson County
Beech Creek:
Approximately 500 feet downstream of the Private Drive | *637
Approximately 1,960 feet upstream of Murray Lane | *666
Owl Creek:
Approximately 900 feet downstream of the county boundary | *554
Approximately 2,600 feet upstream of Ragsdale Road | *652
Mill Creek:
Approximately 0.14 mile downstream of Concord Road | *555
Approximately 900 feet upstream of Concord Road | *557
Maps available for inspection at the Brentwood City Hall, 5211 Maryland Way, Brentwood, Tennessee.
———
Rockwood (City), Roane County (FEMA Docket No. D-7542)
North Fork Black Creek:
Approximately 300 feet downstream of South Front Avenue | *872
Approximately 200 feet upstream of South Lenoir Avenue | *882
East Fork Black Creek:
At the upstream side of West Wheeler Street | *880
Approximately 380 feet upstream of North Front Avenue | *912
Black Creek Side Channel:
At the confluence with Black Creek | *866
At the divergence from North Fork Black Creek | *872
Black Creek:
Approximately 1,580 feet upstream of U.S. Route 70 | *854
Approximately 220 feet upstream of West Rockwood Street | *878
Middle Fork Black Creek:
Approximately 140 feet downstream of North Chamberlain Avenue | *878
Approximately 2,420 feet upstream of Strang Street | *924
Maps available for inspection at the City Hall Building, 110 North Chamberlain Avenue, Rockwood, Tennessee 37854.
WISCONSIN
Belleville (Village), Dane County (FEMA Docket No. D-7504)
Sugar River:
At Remy Road | *855
At a point approximately 1.2 miles upstream of Belleville Dam | *864
Maps available for inspection at the Belleville Village Hall, 24 West Main Street, Belleville, Wisconsin.
———
Cross Plains (Village), Dane County (FEMA Docket No. D-7504)
Enchanted Valley Creek:
At the confluence with Black Earth Creek | *873
Approximately 50 feet downstream of Military Road | *903
Maps available for inspection at the Cross Plains Village Hall, 2417 Brewery Road, Cross Plains, Wisconsin.
———
Deerfield (Village), Dane County (FEMA Docket No. D-7504)
Unnamed Tributary from Mud Creek:
Approximately 1.1 mile from confluence with Mud Creek | *850
Maps available for inspection at the Deerfield Village Hall, 4 North Main Street, Deerfield, Wisconsin.
———
Markesan (City), Green Lake County (FEMA Docket No. D-7538)
Grand River:
At downstream corporate limits | *841
Approximately 0.6 mile upstream of the confluence of East Tributary | *855
East Tributary:
At confluence with Grand River | *851
Approximately 0.6 mile upstream of John Street | *854
West Tributary:
At confluence with Grand River | *845
Approximately 0.5 mile upstream of Margaret Street | *871
Maps available for inspection at the Markesan City Hall, 150 South Bridge Street, Markesan, Wisconsin.
———
McFarland (Village), Dane County (FEMA Docket No. D-7504)
Upper Mud Lake (formerly known as Lake Waubesa):
Entire shoreline within the community | *848
Maps available for inspection at the McFarland Village Municipal Center, 5915 Milwaukee Street, McFarland, Wisconsin.
———
Middleton (City), Dane County (FEMA Docket No. D-7504)
Pheasant Branch:
Approximately 1,500 feet west of the intersection of Airport Road and Laura Lane | *926
Maps available for inspection at the Middleton City Hall, 7426 Hubbard Avenue, Middleton, Wisconsin.
———
Shorewood Hills (Village), Dane County (FEMA Docket No. D-7504)
Lake Mendota:
Entire shoreline within community | *852
Maps available for inspection at the Shorewood Hills Village Hall, 810 Shorewood Boulevard, Madison, Wisconsin.
———
Sun Prairie (City), Dane County (FEMA Docket No. D-7504)
Koshkonong Creek:
Approximately 1,300 feet upstream of Bailey Road | *922
Approximately 1.0 mile upstream of South Bird Street | *925
Maps available for inspection at the Sun Prairie City Hall, 300 East Main Street, Sun Prairie, Wisconsin.
———
Waunakee (Village), Dane County (FEMA Docket No. D-7504)
Sixmile Creek:
Approximately 145 feet west of intersection of State Route 19 and Dorn Drive | *920
Maps available for inspection at the Waunakee Village Hall, 500 West Main Street, Waunakee, Wisconsin.

(Catalog of Federal Domestic Assistance No. 83.100, “Flood Insurance”)
Dated: February 3, 2003.
Anthony S. Lowe,
Administrator, Federal Insurance and Mitigation Administration.

[FR Doc. 03-3331 Filed 2-10-03; 8:45 am]

BILLING CODE 6718-04-P